ENVIRONMENTAL PROTECTION AGENCY

[EPA-HQ-OPP-2015-0231; FRL-9936-04-OEI]

Information Collection Request Submitted to OMB for Review and Approval; Comment Request; Foreign Purchaser Acknowledgement Statement of Unregistered Pesticides

AGENCY: Environmental Protection Agency (EPA).

ACTION: Notice.

SUMMARY: EPA has submitted the following information collection request (ICR) to the Office of Management and Budget (OMB) for review and approval in accordance with the Paperwork Reduction Act (PRA): “Foreign Purchaser Acknowledgement Statement of Unregistered Pesticides” (FPAS) and identified by EPA ICR No. 0161.13 and OMB Control No. 2070-0027. The ICR, which is available in the docket along with other related materials, provides a detailed explanation of the collection activities and the burden estimate that is only briefly summarized in this document. EPA has addressed the comments received in response to the previously provided public review opportunity issued in the Federal Register on May 8, 2015 (80 FR 26554). With this submission, EPA is providing an additional 30 days for public review.

DATES: Comments must be received on or before February 16, 2016.

ADDRESSES: Submit your comments, identified by docket identification (ID) number EPA-HQ-OPP-2015-0231, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Scott Drewes, Field and External Affairs, (7506P), Office of Pesticide Programs, Environmental Protection Agency, 1200 Pennsylvania Ave. NW., Washington, DC 20460-0001; telephone number: (703) 347-0107; email address: drewes.scott@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on January 31, 2016. Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This information collection request is designed to enable the EPA to provide notice to foreign purchasers of unregistered pesticides exported from the United States that the pesticide product cannot be sold in the United States. Section 17(a)(2) of the Federal Insecticide, Fungicide, and Rodenticide Act (FIFRA) requires an exporter of any pesticide not registered under FIFRA section 3 or sold under FIFRA section 6(a)(1) to obtain a signed statement from the foreign purchaser acknowledging that the purchaser is aware that the pesticide is not registered for use in, and cannot be sold in, the United States. A copy of this FPAS must be transmitted to an appropriate official of the government in the importing country. This information is submitted in the form of annual or per-shipment statements to the EPA, which maintains original records and transmits copies thereof to appropriate government officials of the countries which are importing the pesticide. This information collection request also includes the burden imposed by export labeling requirements, which meet the definition of third-party disclosure. In addition to the export notification for unregistered pesticides, FIFRA requires that all pesticides include appropriate labeling. There are different requirements for registered and unregistered products. This information collection has been constant since the implementation of the 1993 pesticide export policy governing the export of pesticides, devices, and active ingredients used in producing pesticides.

Respondents/Affected Entities: Entities potentially affected by this ICR are individuals or entities that produce and export pesticides.

Respondent's obligation to respond: Mandatory.

Estimated total number of potential respondents: 50.

Frequency of response: Annual or on occasion.

Estimated total burden: 17,993 hours (per year). Burden is defined at 5 CFR 1320.3(b).

Estimated total costs: $ 1,224,655 (per year), includes no annualized capital investment or maintenance and operational costs.

Changes in the estimates: There is a decrease of 6,477 hours in the total estimated respondent burden compared with that identified in the ICR currently approved by OMB. This decrease reflects EPA's updating of burden estimates for this collection based upon historical information on the number of responses per year. Based upon revised estimates, the number of exported products has decreased from 3,600 to 2,411, with a corresponding decrease in the associated burden. This change is an adjustment.

Courtney Kerwin,
Acting Director, Collection Strategies Division.

[FR Doc. 2016-00744 Filed 1-14-16; 8:45 am]

BILLING CODE 6560-50-P